DEPARTMENT OF HOMELAND SECURITY

Coast Guard

33 CFR Part 117

[Docket No. USCG-2018-0326]

Drawbridge Operation Regulation; Willamette River at Portland, OR

AGENCY: Coast Guard, DHS.

ACTION: Notice of deviation from drawbridge regulation.

SUMMARY: The Coast Guard has issued a temporary deviation from the operating schedule that governs three Multnomah County bridges: Broadway Bridge, mile 11.7, Morrison Bridge, mile 12.8, and Hawthorne Bridge, mile 13.1 crossing the Willamette River at Portland, OR. This deviation is necessary to accommodate the annual Cinco de Mayo half marathon event. The deviation allows the bridges to remain in the closed-to-navigation position.

DATES: This deviation is effective from 8 a.m. to 9:15 a.m. on May 6, 2018.

ADDRESSES: The docket for this deviation, USCG-2018-0326 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: Multnomah County, the bridge owner, has requested a temporary deviation from the operating schedule for the Broadway Bridge, mile 11.7, Morrison Bridge, mile 12.8, and Hawthorne Bridge, mile 13.1, all three crossing the Willamette River at Portland, OR. The requested deviation is to accommodate the annual Cinco de Mayo half marathon event. The vertical clearances for theses bridges in the closed-to-navigation position are: Broadway Bridge provides 69 feet, Morrison Bridge provides 69 feet and Hawthorne Bridge provides 49 feet; all clearances are referenced to the vertical clearance above Columbia River Datum 0.0. The normal operating schedule for these bridges is 33 CFR 117.897. This deviation allows the Broadway Bridge, Morrison Bridge, and the Hawthorne Bridge to remain in the closed-to-navigation position, and need not open for maritime traffic from 8 a.m. to 9:15 a.m. on May 6, 2018.

Waterway usage on this part of the Willamette River includes vessels ranging from commercial tug and barge to small pleasure craft. Vessels able to pass through the subject bridges in the closed-to-navigation position may do so at any time. The bridges will be able to open for emergencies, and there is no immediate alternate route for vessels to pass. The Coast Guard will inform the users of the waterway, through our Local and Broadcast Notices to Mariners, of the change in operating schedule for the bridges so that vessels can arrange their transits to minimize any impact caused by the temporary deviation. In accordance with 33 CFR 117.35(e), the drawbridges must return to their regular operating schedules immediately at the end of the effective period of this temporary deviation. This deviation from the operating regulations is authorized under 33 CFR 117.35.

Dated: April 10, 2018.
Steven M. Fischer,
Bridge Administrator, Thirteenth Coast Guard District.

[FR Doc. 2018-07959 Filed 4-16-18; 8:45 am]

BILLING CODE 9110-04-P